POSTAL SERVICE

39 CFR Part 111

General Information on Postal Service

AGENCY: Postal Service.

ACTION: Final Rule.

SUMMARY: This rule amends the Postal Service regulations to reflect current information regarding the publication and availability of the Domestic Mail Manual (DMM).

DATES: Effective Date: This final rule is effective on October 4, 2004.

FOR FURTHER INFORMATION CONTACT: Sherry L. Freda, (202) 268-7259.

SUPPLEMENTARY INFORMATION: This rule amends 39 CFR part 111 to conform to the yearly publication schedule of the Domestic Mail Manual, and to reflect the publication and availability of the DMM to all users on the Internet at http://pe.usps.gov. The table of contents of the DMM previously set forth in § 111.5 is removed as superfluous.

List of Subjects in 39 CFR Part 111

Administrative practice and procedure.

In view of the considerations discussed above, the Postal Service hereby amends 39 CFR part 111 as follows:

1. The authority citation for part 111 continues to read as follows:

Authority: 5 U.S.C. 552(a); 39 U.S.C. 101, 401, 403, 414, 416, 3001-3011, 3201-3219, 3403-3406, 3621, 3626, 5001.

§ 111.1 [Amended]

2. Amend § 111.1 by removing the words “published twice each year in January and July, unless otherwise determined by the Postal Service” and adding the words “published and maintained by the Postal Service” in their place.

§ 111.2 [Amended]

3. Amend § 111.2—

A. In paragraph (a) by adding at the end the following sentence: “The Domestic Mail Manual is available for examination on the Internet at http://pe.usps.gov.”; and

B. In paragraph (c) by removing the words “A 1-year subscription to the Domestic Mail Manual for two consecutive issues” and adding the words “Subscriptions to the Domestic Mail Manual” in their place.

§ 111.5 [Removed and reserved]

4. Remove and reserve § 111.5.

Stanley F. Mires,
Chief Counsel, Legislative.

[FR Doc. 04-22231 Filed 10-1-04; 8:45 am]

BILLING CODE 7710-12-P